DEPARTMENT OF LABOR

Office of the Secretary

Submission for OMB Review: Comment Request

October 21, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

OMB Number: 1218-0003.

Title: GEAR Certification (29 CFR Part 1919).

Form Number: OSHA 70 Form.

Frequency: On occasion; quadrennially; and annually.

Type of Response: Recordkeeping and reporting.

Affected Public: Business or other for-profit; not-for-profit institutions; Federal government; and State, local, or tribal government.

Number of Respondents: 80.

Number of Annual Responses: 340.

Estimated Time Per Response: 45 minutes.

Total Burden Hours: 81.

Total Annualized capital/startup costs: $0.

Total Annual Costs (operating/maintaining systems or purchasing services): $1,452,000.

Description: OSHA needs the information collected on the OSHA 70 Form to accredit companies to inspect and provide certification for cranes, derricks, and accessory gear use in longshoring, marine terminals and shipyard industries. This collection of information is authorized by 29 CFR part 1919.

Agency: Occupational Safety and Health Administration.

Type of Review: Extension of currently approved collection.

OMB Number: 1218-0095.

Title: Concrete and Masonry Construction (29 CFR 1926, Subpart Q).

Form Number: None.

Frequency: On occasion.

Type of Response: Third party disclosure.

Affected Public: Business or other for-profit; not-for-profit institutions; Federal government; and State, local, or tribal government.

Number of Respondents: 280,000.

Number of Annual Responses: 280,000.

Estimated Time Per Response: 5 minutes.

Total Burden Hours: 22,400.

Total Annualized capital/startup costs: $0.

Total Annual Costs (operating/maintaining systems or purchasing services): $0.

Description: 29 CFR part 1926, subpart Q requires construction firms engaged in the erection of concrete formwork to post warning signs/barriers in accordance with 29 CFR 1926.701(c)(2) to reduce exposure of non-essential employees to the hazards of post-tensioning operations. Paragraphs 29 CFR 1926.702(a)(2), (j)(1), and (j)(2) are general lockout/tagout measures to protect workers from injury associated with equipment and machinery.

Ira L. Mills,
Departmental Clearance Officer.

[FR Doc. 04-24394 Filed 11-1-04; 8:45 am]

BILLING CODE 4510-26-P